ENVIRONMENTAL PROTECTION AGENCY

40 CFR Part 81

[EPA-R04-OAR-2018-0017; FRL-9978-93-Region 4]

Air Plan Approval and Air Quality Designation; SC; Redesignation of the Greenville-Spartanburg Unclassifiable Area

AGENCY: Environmental Protection Agency (EPA).

ACTION: Final rule.

SUMMARY: On January 22, 2018, the State of South Carolina, through the Department of Health and Environmental Control (DHEC), submitted a request for the Environmental Protection Agency (EPA) to redesignate the Greenville-Spartanburg, South Carolina fine particulate matter (PM2.5) unclassifiable area (hereinafter referred to as the “Greenville Area” or “Area”) to unclassifiable/attainment for the 1997 primary and secondary annual PM2.5 national ambient air quality standards (NAAQS). The Greenville Area is comprised of Anderson, Greenville, and Spartanburg Counties in South Carolina. EPA is approving the State's request and redesignating the Area to unclassifiable/attainment for the 1997 primary and secondary annual PM2.5 NAAQS based upon valid, quality-assured, and certified ambient air monitoring data showing that the PM2.5 monitors in the Area are in compliance with the 1997 primary and secondary annual PM2.5 NAAQS.

DATES: This rule will be effective July 2, 2018.

ADDRESSES: EPA has established a docket for this action under Docket Identification No. EPA-R04-OAR-2018-0017. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Madolyn Sanchez, Air Regulatory Management Section, Air Planning and Implementation Branch, Air, Pesticides and Toxics Management Division, U.S. Environmental Protection Agency, Region 4, 61 Forsyth Street SW, Atlanta, Georgia 30303-8960. Ms. Sanchez can be reached by telephone at (404) 562-9644 or via electronic mail at sanchez.madolyn@epa.gov.

SUPPLEMENTARY INFORMATION:

I. Background

On July 18, 1997 (62 FR 38652), EPA revised the NAAQS for particulate matter to add new standards for PM2.5 (annual and 24-hour). The primary and secondary annual standards were each set at a level of 15.0 micrograms per cubic meter (μg/m³), based on a 3-year average of annual mean PM2.5 concentrations. The primary and secondary 24-hour standards were each set at a level of 65 μg/m³, based on a 3-year average of the 98th percentile of 24-hour concentrations. EPA established the standards based on significant evidence and numerous health studies demonstrating that serious health effects are associated with exposures to particulate matter.

The process for designating areas following promulgation of a new or revised NAAQS is contained in section 107(d)(1) of the Clean Air Act (CAA). EPA and state air quality agencies initiated the monitoring process for the 1997 PM2.5 NAAQS in 1999, and deployed all air quality monitors by January 2001. On January 5, 2005 (70 FR 944), EPA designated areas across the country as nonattainment, unclassifiable, or unclassifiable/attainment ¹ for the 1997 PM2.5 NAAQS based upon air quality monitoring data from these monitors for calendar years 2001-2003.

¹ For the initial PM area designations in 2005 (for the 1997 PM2.5 NAAQS), EPA used a designation category of “unclassifiable/attainment” for areas that had monitors showing attainment of the standard and were not contributing to nearby violations and for areas that did not have monitors but for which EPA had reason to believe were likely attaining the standard and not contributing to nearby violations. EPA used the category “unclassifiable” for areas in which EPA could not determine, based upon available information, whether or not the NAAQS was being met and/or EPA had not determined the area to be contributing to nearby violations. EPA reserves the “attainment” category for when EPA redesignates a nonattainment area that has attained the relevant NAAQS and has an approved maintenance plan.

Greenville County, South Carolina, had a monitor with less than three years of data because the monitor had not been in operation for the full 2001-2003 period. Based upon the data that was obtained during its operation, the monitor indicated a potential to violate the 1997 annual PM2.5 NAAQS. Also, Anderson and Spartanburg Counties had emissions and population levels that potentially contributed to the elevated concentrations of PM2.5 at the Greenville monitor in question. Therefore, EPA designated all three counties—Anderson, Greenville and Spartanburg—as unclassifiable for the 1997 annual PM2.5 NAAQS.

On January 22, 2018, South Carolina submitted a request for EPA to redesignate the Greenville Area to unclassifiable/attainment for the 1997 annual PM2.5 NAAQS now that there is sufficient data to determine that the Area is in attainment. In a notice of proposed rulemaking (NPRM) published on March 13, 2018 (83 FR 10814), EPA proposed to approve the State's redesignation request. The details of South Carolina's submittal and the rationale for EPA's actions are further explained in the NPRM. EPA did not receive any adverse comments on the proposed action.

II. Final Action

EPA is approving South Carolina's redesignation request and redesignating the Greenville Area from unclassifiable to unclassifiable/attainment for the 1997 primary and secondary annual PM2.5 NAAQS.

III. Statutory and Executive Order Reviews

Under the CAA, redesignation of an area to unclassifiable/attainment is an action that affects the status of a geographical area and does not impose any additional regulatory requirements on sources beyond those imposed by state law. A redesignation to unclassifiable/attainment does not in and of itself create any new requirements. Accordingly, this action merely redesignates an area to unclassifiable/attainment and does not impose additional requirements. For that reason, this action:

• Is not a significant regulatory action subject to review by the Office of Management and Budget under Executive Orders 12866 (58 FR 51735, October 4, 1993) and 13563 (76 FR 3821, January 21, 2011);

• is not an Executive Order 13771 (82 FR 9339, February 2, 2017) regulatory action because redesignations are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• will not have disproportionate human health or environmental effects under Executive Order 12898 (59 FR 7629, February 16, 1994).

In addition, this action does not have Tribal implications as specified by Executive Order 13175 (65 FR 67249, November 9, 2000). The Catawba Indian Nation Reservation is located within the State of South Carolina. Pursuant to the Catawba Indian Claims Settlement Act, S.C. Code Ann. 27-16-120, “all state and local environmental laws and regulations apply to the Catawba Indian Nation and Reservation and are fully enforceable by all relevant state and local agencies and authorities.” However, because no tribal lands are located within the Area and the redesignation does not create new requirements, EPA has determined that this rule does not have substantial direct effects on an Indian Tribe. EPA notes this action will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 31, 2018. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 81

Environmental protection, Air pollution control, National parks, Wilderness areas.

Dated: May 18, 2018.
Onis” Trey” Glenn, III,
Regional Administrator, Region 4.

40 CFR part 81 is amended as follows:

PART 81—DESIGNATION OF AREAS FOR AIR QUALITY PLANNING PURPOSES

1. The authority citation for part 81 continues to read as follows:

Authority: 42.U.S.C. 7401 et seq.

2. In § 81.341, the table entitled “South Carolina-1997 Annual PM2.5 NAAQS (Primary and secondary)” is amended under the heading “Greenville-Spartanburg, SC:” by revising the entries for “Anderson County”, “Greenville County”, and “Spartanburg County” to read as follows:

§ 81.341 South Carolina.

* * * * *

South Carolina—1997 Annual PM2.5 NAAQS
[Primary and secondary]
Designated area | Designation a: Date 1 | Designation a: Type | Classification: Date | Classification: Type
Greenville-Spartanburg, SC:
Anderson County | June 1, 2018 | Unclassifiable/Attainment
Greenville County | June 1, 2018 | Unclassifiable/Attainment
Spartanburg County | June 1, 2018 | Unclassifiable/Attainment
* * * * * * *
ᵃ Includes Indian Country located in each county or area, except as otherwise specified.
¹ This date is 90 days after January 5, 2005, unless otherwise noted.

* * * * *

[FR Doc. 2018-11833 Filed 5-31-18; 8:45 am]

BILLING CODE 6560-50-P